DEPARTMENT OF COMMERCE

International Trade Administration

[A-533-867]

Welded Stainless Pressure Pipe From India: Final Results of Antidumping Duty Administrative Review; 2021-2022

AGENCY: Enforcement and Compliance, International Trade Administration, Department of Commerce.

SUMMARY: The U.S. Department of Commerce (Commerce) determines that welded stainless pressure pipe (WSPP) from India was sold in the United States at less than normal value during the period of review (POR), November 1, 2021, through October 31, 2022.

DATES: Applicable June 10, 2024.

FOR FURTHER INFORMATION CONTACT: Charles Doss or John Conniff, AD/CVD Operations, Office III, Enforcement and Compliance, International Trade Administration, U.S. Department of Commerce, 1401 Constitution Avenue NW, Washington, DC 20230; telephone: (202) 482-4474 and (202) 482-1009.

SUPPLEMENTARY INFORMATION:

Background

On December 7, 2023, Commerce published the Preliminary Results for this review in the Federal Register and invited interested parties to comment on those results.¹ On December 11, 2023, Ratnamani Metal & Tubes Ltd. (Ratnamani) responded to Commerce's second supplemental questionnaire and on April 4, 2024, Prakash Steelage Limited (PSL) and Seth Steelage Private Limited (SSPL) (collectively, PSL/SSPL) ² responded to Commerce's post-preliminary questionnaire.³ On April 16, 2024, Commerce notified parties of the final briefing schedule for interested parties to submit comments concerning the Preliminary Results and any factual information received since the issuance thereof.⁴ No interested party submitted comments or requested a hearing for this administrative review. Although Commerce has made certain minor changes to the margin calculations for both respondents based on information received subsequent to the Preliminary Results, because no substantive comment was received, no decision memorandum accompanies this notice. Commerce conducted this review in accordance with section 751(a)(1)(B) of the Tariff Act of 1930, as amended (the Act).

¹ See Welded Stainless Pressure Pipe from India: Preliminary Results and Partial Rescission of Antidumping Duty Administrative Review; 2021-2022, 88 FR 85211 (December 7, 2023) (Preliminary Results), and accompanying Preliminary Decision Memorandum.

² Commerce preliminarily determined PSL and SSPL to be affiliated and collapsed into a single entity, PSL/SSPL. See Memorandum, “2021-2022 Antidumping Duty Administrative Review of Welded Stainless Pressure Pipe from India: Preliminary Affiliation and Collapsing Memorandum,” dated November 30, 2023. We received no comment in opposition to this preliminary collapsing determination. Therefore, we continue to find PSL and SSPL to be affiliated and collapsed as a single entity for the purposes of these final results.

³ See Ratnamani's Letter, “Submission of Section- B & C 2nd Supplemental Questionnaire Response,” dated December 11, 2023; see also PSL's Letter, “Response to Section ABCD 2nd Supplemental Questionnaire,” dated April 4, 2024.

⁴ See Memorandum, “Updated Briefing Schedule,” dated April 16, 2024.

Scope of the Order ⁵

⁵ See Welded Stainless Pressure Pipe from India: Antidumping and Countervailing Duty Orders, 81 FR 81062 (November 17, 2016) (Order).

The merchandise subject to the Order is welded stainless pressure pipe from India. For a complete description of the scope, see the Preliminary Decision Memorandum.

Rates for Companies Not Selected for Individual Examination

For the rate for non-selected respondents in an administrative review, generally, Commerce looks to section 735(c)(5) of the Act, which provides instructions for calculating the all-others rate in a market economy investigation. Under section 735(c)(5)(A) of the Act, the all-others rate is normally “an amount equal to the weighted-average of the estimated weighted-average dumping margins established for exporters and producers individually investigated, excluding any zero or de minimis margins, and any margins determined entirely {on the basis of facts available}.” In this segment of the proceeding, we have calculated a weighted-average dumping margin that is not zero, de minimis, or determined entirely on the basis of facts available for Ratnamani. Therefore, in accordance with section 735(c)(5)(A) of the Act, we have assigned Ratnamani's weighted-average dumping margin of 2.55 percent to the non-examined companies because this is the only rate that is not zero, de minimis, or based entirely on facts available. See the appendix to this notice for a list of these companies.

Changes Since the Preliminary Results

There have been minor changes since the Preliminary Results based on subsequent supplemental questionnaire responses and updated sales databases, which are detailed in the final analysis memoranda.⁶

⁶ For further discussion, see Memoranda, “PSL/SSPL Final Analysis Memorandum,” dated concurrently with this notice; and “Ratnamani Final Analysis Memorandum,” dated concurrently with this notice.

Final Results of Review

Commerce determines that the following weighted-average dumping margins exist for the period November 1, 2021, through October 31, 2022:

Exporter/producer | Weighted- average dumping margin (percent)
Ratnamani Metals & Tubes Ltd | 2.55
Prakash Steelage Ltd/Seth Steelage Pvt. Ltd | 0.00
Non-examined companies ⁷ | 2.55

Disclosure

⁷ See the appendix for a full list of these companies.

Commerce intends to disclose the calculations performed for these final results to interested parties in this review under administrative protective order (APO) within five days of the date of publication of this notice in the Federal Register, in accordance with 19 CFR 351.224(b).

Assessment Rate

Pursuant to section 751(a)(2)(A) of the Act, and 19 CFR 351.212(b)(1), Commerce shall determine, and U.S. Customs and Border Protection (CBP) shall assess, antidumping duties on all appropriate entries covered by this review. Pursuant to 19 CFR 351.212(b)(1), for Ratnamani, we calculated importer-specific antidumping duty assessment rates by aggregating the total amount of dumping calculated for the examined sales of each importer and dividing each of these amounts by the total entered value associated with those sales. Where either the respondent's weighted-average dumping margin is zero or de minimis within the meaning of 19 CFR 351.106(c)(1), or an importer specific assessment rate is zero or de minimis, we will instruct CBP to liquidate the appropriate entries without regard to antidumping duties.

Commerce will “automatically assess” entries of subject merchandise during the POR for which the examined companies did not know that the merchandise they sold to an intermediary (e.g., a reseller, trading company, or exporter) was destined for the United States. In such instances, we will instruct CBP to liquidate unreviewed entries at the all-others rate if there is no rate for the intermediate company(ies) involved in the transaction.

The assessment rate for antidumping duties for each of the companies not selected for individual examination will be equal to the weighted-average dumping margin identified above in the “Final Results of Review” section.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date of the final results of this administrative review, as provided by section 751(a)(2)(C) of the Act: (1) the cash deposit rates for the companies identified above in the “Final Results of Review” will be equal to the company-specific weighted-average dumping margin established in the final results of this administrative review; (2) for merchandise exported by a company not covered in this administrative review but covered in a completed prior segment of the proceeding, the cash deposit rate will continue to be the company-specific rate published for the most recently completed segment of this proceeding; (3) if the exporter is not a firm covered in this review or completed prior segment of this proceeding but the producer is, the cash deposit rate will be the company-specific rate established for the most recently-completed segment of this proceeding for the producer of the subject merchandise; and (4) the cash deposit rate for all other producers or exporters will continue to be 8.35 percent, the rate established in the investigation of this proceeding.⁸ These cash deposit requirements, when imposed, shall remain in effect until further notice.

⁸ See Order, 81 FR at 81063.

Notification to Importers

This notice serves as a final reminder to importers of their responsibility under 19 CFR 351.402(f)(2) to file a certificate regarding the reimbursement of antidumping and/or countervailing duties prior to liquidation of the relevant entries during this POR. Failure to comply with this requirement could result in Commerce's presumption that reimbursement of antidumping and/or countervailing duties has occurred and the subsequent assessment of double antidumping duties, and/or an increase in the amount of antidumping duties by the amount of the countervailing duties.

Administrative Protective Order

This notice also serves as a final reminder to parties subject to an APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and the term of an APO is a sanctionable violation.

Notification to Interested Parties

We are issuing and publishing this notice in accordance with sections 751(a)(1) and 777(i)(1) of the Act, and 19 CFR 351.221(b)(5) and 19 CFR 351.213(h)(1).

Dated: June 4, 2024.
Ryan Majerus,
Deputy Assistant Secretary for Policy and Negotiations, performing the non-exclusive functions and duties of the Assistant Secretary for Enforcement and Compliance.

Appendix

List of Companies Not Individually Examined

1. Apex Tubes Private Ltd.

2. Apurvi Industries

3. Arihant Tubes

4. Divine Tubes Pvt. Ltd.

5. Heavy Metal & Tubes

6. Hindustan Inox. Limited

7. J.S.S. Steelitalia Ltd.

8. Linkwell Seamless Tubes Private Limited

9. Maxim Tubes Company Pvt. Ltd.

10. MBM Tubes Pvt. Ltd.

11. Mukat Tanks & Vessel Ltd.

12. Neotiss Ltd.

13. Quality Stainless Pvt. Ltd.

14. Raajranta Metal Industries Ltd.

15. Ratnadeep Metal & Tubes Ltd.

16. Remi Edelstahl Tubulars

17. Shubhlaxmi Metals & Tubes Private Limited

18. SLS Tubes Pvt. Ltd.

19. Steamline Industries Ltd.

[FR Doc. 2024-12655 Filed 6-7-24; 8:45 am]

BILLING CODE 3510-DS-P